DEPARTMENT OF HOMELAND SECURITY

Coast Guard

33 CFR Part 117

[CGD01-03-096]

RIN 1625-AA09

Drawbridge Operation Regulations; Rahway River, NJ

AGENCY: Coast Guard, DOT.

ACTION: Notice of proposed rulemaking.

SUMMARY: The Coast Guard proposes to change the drawbridge operating regulations governing the operation of the Conrail Bridge, mile 2.0, across the Rahway River at Linden, New Jersey. This proposed rule would allow the bridge to be operated from a remote location. The bridge would remain in the open position at all times except for the passage of rail traffic. This rule is expected to relieve the bridge owner of the burden of crewing the bridge at all times while still providing for the reasonable needs of navigation.

DATES: Comments must reach the Coast Guard on or before December 15, 2003.

ADDRESSES: You may mail comments and related material to Commander (obr), First Coast Guard District Bridge Branch, One South Street, Battery Park Building, New York, New York, 10004, or deliver them to the same address between 7 a.m. and 3 p.m., Monday through Friday, except Federal holidays. The telephone number is (212) 668-7165. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: Joe Arca, Project Officer, First Coast Guard District, (212) 668-7069.

SUPPLEMENTARY INFORMATION:

Request for Comments

We encourage you to participate in this rulemaking by submitting comments or related material. If you do so, please include your name and address, identify the docket number for this rulemaking (CGD01-03-096), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

The Conrail Bridge has a vertical clearance of 6 feet at mean high water and 11 feet at mean low water in the closed position.

The existing drawbridge operation regulations listed at 33 CFR 117.743, require the bridge to open on signal from April 1 through November 30, from 6 a.m. to 10 p.m. At all other times, the bridge opens on signal if at least a four-hour notice is given.

The Conrail Bridge across the Rahway River is navigated predominantly by small recreational vessels April through November.

The owner of the bridge, Consolidated Rail Corporation (Conrail), requested a change to the drawbridge operation regulations that would allow the bridge owner to operate the bridge from a remote location. The bridge would be operated from the remote location by a bridge/train dispatcher located at the Conrail Dispatch Office at Mount Laurel, New Jersey. The on scene bridge tender would be eliminated by this rulemaking.

It is expected that this proposed rule, if adopted, would relieve the bridge owner of the burden of crewing the bridge at all times while still meeting the reasonable needs of navigation.

Discussion of Proposal

This proposed rule would relieve the bridge owner from the burden of crewing the bridge at all times by allowing the bridge to be operated from a remote location while still meeting the reasonable needs of navigation.

Under this proposed rule the bridge would remain in the full open position at all times and be closed only for the passage of rail traffic. The procedure for closing the Conrail Bridge to vessel traffic to allow the passage of rail traffic across the waterway would be as follows:

All rail traffic approaching the bridge would be stopped at a safe point before crossing the bridge; a train crewmember would detrain and relocate to a good vantage point to observe the waterway both up and down stream. Any vessel traffic observed approaching the bridge would be allowed to pass through the bridge before closing; once it is determined that no vessel traffic is approaching or under the bridge, the train crewmember would then communicate by radio or telephone with the remotely located bridge/train dispatcher at the Conrail Dispatch Office, at Mount Laurel, New Jersey, requesting the bridge to be closed.

Before closing the bridge a public address system would announce that the bridge is closing, a marine traffic light system located at the bridge facing both upstream and downstream would change from flashing green to flashing red, and a horn would sound two times, pause 10 seconds, then repeat two horn blasts until the bridge is seated and locked down.

During the downward bridge span closing the bridge/train dispatcher would continually monitor the infrared sensor system to ensure that no vessel traffic is approaching or passing under the bridge. After the rail traffic has cleared the bridge, the horn would sound five times to signal that the bridge is about to open.

Based upon all the above information, the Coast Guard believes that this proposed rule is reasonable. It is expected that this rule will relieve the bridge owner from the burden of crewing the bridge at all times while still meeting the reasonable needs of navigation.

Regulatory Evaluation

This proposed rule is not a “significant regulatory action” under section 3(f) of Executive Order 12866, Regulatory Planning and Review, and does not require an assessment of potential costs and benefits under 6(a)(3) of that Order. The Office of Management and Budget has not reviewed it under that Order. It is not “significant” under the regulatory policies and procedures of the Department of Homeland Security.

We expect the economic impact of this proposed rule to be so minimal that a full Regulatory Evaluation, under the regulatory policies and procedures of DHS, is unnecessary.

This conclusion is based on the fact that the bridge would be open for vessel traffic at all times, except for the passage of rail traffic.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities.

This conclusion is based on the fact that the bridge would be open for vessel traffic at all times, except for the passage of rail traffic.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under E.O. 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that may disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this proposed rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this proposed rule is categorically excluded, under figure 2-1, paragraph (32)(e), of the Instruction, from further environment documentation because it has been determined that the promulgation of operating regulations for drawbridges are categorically excluded.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; Department of Homeland Security Delegation No. 0170.1; 33 CFR 1.05-1(g); section 117.255 also issued under the authority of Pub. L. 102-587, 106 Stat. 5039.

2. Section 117.743 is revised to read as follows:

§ 117.743 Rahway River.

The draw of the Conrail Bridge, mile 2.0, across the Rahway River, at Linden, New Jersey, shall operate as follows:

(a) The draw shall remain in the full open position at all times, and shall only be closed for the passage of rail traffic or the performance of maintenance authorized in accordance with subpart A of this part.

(b) The draw shall be remotely operated by a bridge/train dispatcher located at the Conrail Dispatch Office at Mount Laurel, New Jersey.

(c) A marine traffic light system shall be maintained at the bridge and display flashing green lights to indicate that vessels may pass through the bridge, and flashing red lights any time the bridge is not in the full open position.

(d) An infrared sensor system shall be maintained at the bridge to determine that no conflict with vessel traffic exists while the bridge is closing.

(e) Before the bridge may be closed from the remote location, an on-site train crewmember shall observe the waterway for any vessel traffic. All approaching vessels shall be allowed to pass before the bridge may close. The on-site train crewmember shall then communicate with the bridge/train dispatcher at the Conrail Dispatch Office, at Mount Laurel, either by radio or telephone, to request that the bridge be closed.

(f) While the bridge is moving from the full open to full closed position, the bridge/train dispatcher shall maintain constant surveillance of the navigational channel at the bridge using the infrared sensor system.

(g) If the infrared sensors detect a vessel or other obstruction approaching or under the bridge before the draw is fully lowered and locked, the closing sequence is stopped, automatically, and the draw is raised to its fully open position until the channel is clear.

(h) During the downward bridge closing movement, the marine traffic light system located at the bridge will change from flashing green to flashing red, the public address system will announce that the bridge will be closing, and the horn will sound two times, pause 10 seconds, then repeat two horn blasts until the bridge is seated and fully locked down.

(i) When all rail traffic has cleared the bridge, the bridge/train dispatcher will sound the horn five times to signal that the draw is about to open.

(j) In the event of a failure, or obstruction to the infrared sensor system, the bridge shall immediately be returned to the full open position until the problem is corrected.

(k) In the event of a loss of communication between the on-site personnel and the bridge/train dispatcher, the bridge shall immediately be returned to the full open position until the problem is corrected.

(l) Should the draw become inoperable from the remote site while the bridge is in the closed position, a bridge tender, maintenance personnel, or engineer shall be deployed to be on site within one hour from the time the draw becomes inoperable until the bridge can be returned to the full open position.

(m) Trains shall be controlled so that any delay in opening of the draw shall not exceed ten minutes after a train has crossed the bridge; except as provided in 33 CFR 117.31(b). However, if a train moving toward the bridge has crossed the home signal for the bridge, the train may continue across the bridge and must clear the bridge interlocks before stopping.

Dated: September 29, 2003.
John L. Grenier,
Captain, U.S. Coast Guard, Acting Commander, First Coast Guard District.

[FR Doc. 03-25892 Filed 10-10-03; 8:45 am]

BILLING CODE 4910-15-P